DEPARTMENT OF ENERGY

Federal Energy Regulatory Commission

[Docket No. CP00-233-000]

Southern Natural Gas Company; Notice of Intent To Prepare an Environmental Assessment for the Proposed South System Expansion Project and Request for Comments on Environmental Issues

June 2, 2000.

The staff of the Federal Energy Regulatory Commission (FERC or Commission) will prepare an environmental assessment (EA) that will discuss the environmental impacts of the South System Expansion Project involving construction and operation of facilities by Southern Natural Gas Company (Southern) in several counties in Alabama, Mississippi, and Georgia.¹ These facilities would consist of about 73 miles of various diameter pipeline and 24,220 horsepower (hp) of compression. This EA will be used by the Commission in its decision-making process to determine whether the project is in the public convenience and necessity.

¹ Southern's application was filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Southern provided to landowners. This fact sheet addresses a number of typically asked questions, including the use of eminent domain and how to participate in the Commission's proceedings. It is available for viewing on the FERC Internet website (www.ferc.fed.us).

Summary of the Proposed Project

Southern wants to expand the capacity of its facilities in Alabama, Mississippi, and Georgia to transport an additional 335,800 thousand cubic feet per day of natural gas to Southern Company Services, Inc. (SCS), South Carolina Pipeline Corporation (SCPC), and the City of LaGrange, Georgia. Southern proposes to construct the project in two phases, with in-service dates proposed for June 1, 2002 (Phase I) and June 1, 2003 (Phase II), respectively. Southern seeks authority to construct and operate:

Phase I Facilities (2002)

• 5.67 miles of 30-inch-diameter pipeline loop ² on its South Main 3rd Loop Line System from milepost (MP) 67.230 to MP 72.889 in Clark County, Mississippi (Loop 1);

² A loop is a segment of pipeline that is usually installed adjacent to an existing pipeline and connected to it at both ends. The loop allows more gas to be moved through the system.

• 5.0 miles of 30-inch-diameter pipeline loop on its South Main Lop 3rd Loop Line System from MP 102.845 to MP 107.849 in Sumter County, Alabama (Loop 2);

• 7.82 miles of 30-inch-diameter pipeline loop on its South Main 3rd Loop Line System from MP 172.553 to MP 175.630 in Perry County, Alabama and from MP 175.630 to MP 180.357 in Dallas County, Alabama (Loop 3);

• 7.97 miles of 30-inch-diameter pipeline loop on its South Main 3rd Loop Line System from MP 185.157 to MP 187.270 in Dallas County, Alabama and from MP 187.270 to MP 193.130 in Autagua County, Alabama (Loop 4);

• 5.96 miles of 30-inch-diameter pipeline loop on its South Main 4th Loop Line System from MP 255.000 to MP 260.963 in Macon County, Alabama (Loop 5);

• 5.08 miles of 24-inch-diameter pipeline loop on its South Main 2nd Loop Line System from MP 459.869 to MP 464.950 in Jefferson County, Georgia (Loop 6);

• 1.50 miles of 8-inch-diameter pipeline loop on its LaGrange Extension Loop Line System from MP 14.250 to 15.750 in Lee County, Alabama (Loop 7); and

• One new meter station (Plant Urquhart Meter Station) at MP 493.82 on Southern's existing 16-inch-diameter South Main Line and 16-inch South Main Loop Line Systems in Aiken County, South Carolina.

Southern also proposes to install additional compression and make other modifications at its following compressor stations:

• One 4,445 horsepower (hp) unit at the Enterprise Compressor Station (C.S.) in Clarke County, Mississippi;

• One 4,700 hp unit at the York Compressor Station in Sumter County, Alabama;

• One 10,310 hp unit at the Auburn C.S. in Lee County, Alabama; and

• One 4,445 hp unit at the Thomaston C.S. in Upson County, Georgia.

As part of its Phase I facilities, Southern proposes to construct dual 20-inch taps at about MP 297.5 on Southern's 24-inch-diameter South Main Loop Line and 30-inch-diameter South Main 2nd Loop Line Systems in Lee County, Alabama. This interconnect would deliver natural gas to the planned Goat Rock Plan in Lee County, Alabama.

Phase II Facilities (2003)

Southern also seeks authority to construct and operate about:

• 10.39 miles of 30-inch-diameter pipeline loop on its South Main 3rd Loop Line System extending Loop 1 from MP 72.899 to 81.65 in Clarke County, Mississippi, and from MP 81.65 to MP 83.293 in Lauderdale County, Mississippi;

• 10.54 miles of 30-inch-diameter pipeline loop on its South Main 3rd Loop Line System extending Loop 2 from MP 107.849 to MP 118.386 in Sumter County, Alabama;

• 8.06 miles of 30-inch-diameter pipeline loop on its South Main 3rd Loop Line System extending Loop 4 from MP 193.30 to MP 201.193 in Autauga County, Alabama; and

• 5.0 miles of 30-inch-diameter pipeline loop on its South Main 4th Loop Line System extending Loop 5 from MP 250.00 to MP 252.77 in Tallapoosa County, Alabama, and from MP 250.00 to 255.00 in Tallapoosa and Macon Counties, Alabama.

Southern also proposes to install one 10,310 hp compressor and make other modifications at Southern's existing Selma C.S. in Dallas County, Alabama.

As part of its Phase II facilities, Southern would also construct one 20-inch- tap and connection crossover (Autaugaville Tap) at MP 201.19 to connect Southern's 24-inch-diameter South Main Loop Line, 26-inch-diameter South Main Loop Line, 26-inch-diameter South Main 2nd Loop Line, and the proposed 30-inch-diameter South Main 3rd Loop Line Systems in Autauga County, Alabama. This interconnect would deliver natural gas to the planned Autaugaville Plant in Autagua County, Alabama.

The general location of Southern's proposed project facilities is shown on the map attached as appendix 1. Appendix 1 also includes a more detailed description of the facilities.³

³ The appendices referenced in this notice are not being printed in the Federal Register.Copies are available on the Commission's website at the “RIMS” link or from the commission's Public Reference and Files Maintenance Branch, 888 First Street, NE, Room 2A, Washington, DC 20426, or call (202) 208-1371. For instructions on connecting to RIMS, refer to the last page of this notice. Copies of the appendices were sent to all those receiving this notice in the mail.

Land Requirements for Construction

Construction of the proposed facilities would require about 889 acres of land, including the construction right-of-way and pipe storage yards, staging areas, and warehouse sites. For the construction of the 30-inch-diameter loop segments, Southern proposes to use a 95-foot construction right-of-way, which includes a 40- to 55-foot overlap of the existing right-of-way for workspace and temporary spoil storage. For the smaller diameter pipelines, Southern proposes to use either a 50- or 75-foot-wide construction right-of-way, which includes a 30- to 60-foot overlap of existing right-of-way. Because of the use of Southern's existing right-of-way for construction, Southern indicats that only 25 acres would be maintained as new permanent right-of-way.

The EA Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 6.

Currently Identified Environmental Issues

We have already identified several issues that we think deserve attention based on a preliminary review of the proposed facilities and the environmental information provided by Southern. This preliminary list of issues may be changed based on your comments and our analysis.

• Geology and Soils

—Erosion control and right-of-way restoration.

—Potential for mixing of topsoil and subsoil.

• Water Resources and Wetlands

—A total of 52 perennial waterbodies would be crossed.

—A total of 24 wetlands, including 84.53 acres of forested, 12.79 acres of scrub/shrub, and 8.09 acres of emergent, would be crossed.

• Biological Resources

—Impacts on 28 federally threatened and/or endangered species that may be present in the project area.

—Impacts on about 234 acres of upland forest or woodland habitat.

—Impact on the Kinterbish Wildlife Management Area in Sumter County, Alabama.

• Cultural Resources

—Impacts on prehistoric and historic sites.

—Native American concerns.

• Land Use

—Impacts on 158 acres of planted pine.

—Impacts on residential area.

—Visual effect of the aboveground facilities on surrounding areas.

—Impacts on 4 residences within 50 feet of the proposed construction work area.

• Air and Noise Quality

—Impacts on local air and noise environment as a result of the operation of the new compressor upgrades.

• Alternatives

—Evaluate possible alternatives to the proposed projects or portions of the projects, and make recommendations on how to lessen or avoid impacts on the various resource areas.

• Nonjurisdictional Facilities

—Consideration of effects of construction of the associated facilities that may be constructed by SCS and SCPC, including the planned Goat Rock and Autaguaville Power Plants, and those associated laterals and meter stations which are planned to interconnect to Southern's facilities proposed herein.

Public Participation

You can make a difference by providing us with your specific comments or concerns about the project. By becoming a commentor, your concerns will be addressed in the EA and considered by the Commission. You should focus on the potential environmental effects of the proposal, alternatives to the proposal (including alternative [locations/routes]), and measures to avoid or lessen environmental impact. The more specific your comments, the more useful they will be. Please carefully follow these instructions to ensure that your comments are received in time and properly recorded:

• Send two copies of your letter to: David P. Boergers, Secretary, Federal Energy Regulatory Commission, 888 First St., N.E., Room 1A, Washington, DC 20426

• Label one copy of the comments for the attention of Gas 1.

• Reference Docket No. CP00-233-000.

• Mail your comments so that they will be received in Washington, DC on or before July 3, 2000.

Becoming an Intervenor

In addition to involvement in the EA scoping process, you may want to become an official party to the proceeding known at an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link select “Docket #” from the RIMS Menu, and follow the instructions. For assistance with access to RIMS, the RIMS helpline can be reached at (202) 208-2222.

Similarly, the “CIPS” link of the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-14400 Filed 6-7-00; 8:45 am]

BILLING CODE 6717-07-M